DEPARTMENT OF TRANSPORTATION

Federal Aviation Administration

Eighty-Third Meeting: RTCA Special Committee 159: Global Positioning System (GPS).

AGENCY: Federal Aviation Administration (FAA), DOT.

ACTION: Notice of RTCA Special Committee 159 meeting: Global Positioning System (GPS).

SUMMARY: The FAA is issuing this notice to advise the public of a meeting of RTCA Special Committee 159: Global Positioning System (GPS).

DATES: The meeting will be held October 25-29, from 9 a.m. to 4:30 p.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 159: Global Positioning System (GPS) meeting. The agenda will include:

Specific Working Group Sessions

Monday, October 25

• All Day, Working Group 2C, GPS/Inertial, MacIntosh-NBAA Room and Hilton-ATA Room.

Tuesday, October 26

• All Day, Working Group 2, GPS/WAAS, Colton Board Room.

Wednesday, October 27

• All Day, Working Group 2, GPS/WAAS, Colson Board Room.

• All Day, Working Group 4, Precision Landing Guidance (GPS/LAAS), MacIntosh-NBAA Room and Hilton-ATA Room.

Thursday, October 28

• (Proposed) 9—Noon, Joint Working Groups 2 & 4, Discussion—Nav and ADS-B Out Equipment Requirements, MacIntosh-NBAA Room and Hilton-ATA Room. (Otherwise WG-4 will meet All Day.)

• 1-4:30 Working Group 4, Precision Landing Guidance (GPS/LAAS), MacIntosh-NBAA & Hilton-ATA Room.

• All Day, Working Group 7, GPS/Antennas, ARINC Room.

Friday, October 29

Plenary Session—See Agenda Below

Agenda—Plenary Session—Agenda

June 11th, 2010—starting at 9 a.m.

MacIntosh-NBAA & Hilton-ATA Rooms

• Chairman's Introductory Remarks.

• Approval of Summary of the Eighty-Second Meeting held June 11, 2010, RTCA Paper No. 179-10/SC159-987.

• Review Working Group (WG) Progress and Identify Issues for Resolution.

• GPS/3rd Civil Frequency (WG-1)

• GPS/WAAS (WG-2)

• GPS/GLONASS (WG-2A)

• GPS/Inertial (WG-2C)

• GPS/Precision Landing Guidance (WG-4)

• GPS/Airport Surface Surveillance (WG-5)

• GPS/Interference (WG-6)

• GPS/Antennas (WG-7)

• Review of EUROCAE Activities.

• Nav and ADS-B Out Equipment Requirements—Discussion.

• Assignment/Review of Future Work.

• Other Business.

• Date and Place of Next Meeting.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 30, 2010.
Robert L. Bostiga,
RTCA Advisory Committee.

[FR Doc. 2010-25205 Filed 10-5-10; 8:45 am]

BILLING CODE 4910-13-P